DEPARTMENT OF ENERGY

Federal Energy Regulatory Commission

Combined Notice of Filings #1

Take notice that the Commission received the following electric corporate filings:

Docket Numbers: EC13-42-000.

Applicants: Broad River Energy LLC, Broad River OL-1, LLC, Broad River OL-2, LLC, Broad River OL-3, LLC, Broad River OL-4, LLC.

Description: Section 203 Application of Broad River Energy LLC, et al.

Filed Date: 11/16/12.

Accession Number: 20121116-5202.

Comments Due: 5 p.m. ET 12/7/12.

Docket Numbers: EC13-43-000.

Applicants: FirstEnergy Service Company, Allegheny Energy Supply Company, LLC, Monongahela Power Company.

Description: Application of FirstEnergy Service Company, et al. for Authorization Pursuant to Section 203(a)(1) of the Federal Power Act for Transfer of Jurisdictional Facilities and Requests for Waivers of Filing Requirements.

Filed Date: 11/16/12.

Accession Number: 20121116-5223.

Comments Due: 5 p.m. ET 12/7/12.

Docket Numbers: EC13-44-000.

Applicants: Wolverine Creek Goshen Interconnection L, Meadow Creek Project Company LLC, Goshen Phase II LLC, Rockland Wind Farm LLC.

Description: Application for Approval under Section 203 of the Federal Power Act and Requests for Expedited Consideration and Confidential Treatment of Meadow Creek Project Company LLC, et al.

Filed Date: 11/19/12.

Accession Number: 20121119-5081.

Comments Due: 5 p.m. ET 12/10/12.

Take notice that the Commission received the following electric rate filings:

Docket Numbers: ER12-1708-001.

Applicants: ITC Midwest LLC, Midwest Independent Transmission System.

Description: ITC Midwest LLC submits tariff filing per 35: SA 65 ITCM-Northern Iowa Compliance to be effective 7/3/2012.

Filed Date: 11/19/12.

Accession Number: 20121119-5029.

Comments Due: 5 p.m. ET 12/10/12.

Docket Numbers: ER12-2206-001.

Applicants: Southern California Edison Company.

Description: Southern California Edison Company submits tariff filing per 35: Compliance Filing SGIA with Western Antelope Dry Ranch, LLC to be effective 7/6/2012.

Filed Date: 11/19/12.

Accession Number: 20121119-5084.

Comments Due: 5 p.m. ET 12/10/12.

Docket Numbers: ER12-2208-001.

Applicants: Southern California Edison Company.

Description: Southern California Edison Company submits tariff filing per 35: Compliance Filing SGIA with Western Antelope Blue Sky Ranch A, LLC to be effective 7/6/2012.

Filed Date: 11/19/12.

Accession Number: 20121119-5078.

Comments Due: 5 p.m. ET 12/10/12.

Docket Numbers: ER12-2663-001.

Applicants: PJM Interconnection, L.L.C.

Description: Amendment to Service Agreement No. to be effective 8/20/2012.

Filed Date: 11/16/12.

Accession Number: 20121116-5194.

Comments Due: 5 p.m. ET 12/7/12.

Docket Numbers: ER12-2664-001.

Applicants: PJM Interconnection, L.L.C.

Description: Amendment to Notice of Cancellation of SA 3197 to be effective 8/20/2012.

Filed Date: 11/16/12.

Accession Number: 20121116-5193.

Comments Due: 5 p.m. ET 12/7/12.

Docket Numbers: ER13-217-001.

Applicants: Beacom Energy, Inc.

Description: Amendment to Filing 1 to be effective 11/26/2012.

Filed Date: 11/16/12.

Accession Number: 20121116-5195.

Comments Due: 5 p.m. ET 12/7/12.

Docket Numbers: ER13-404-000.

Applicants: California Independent System Operator Corporation.

Description: 2012-11-16 CAISO Tariff Amendment Regarding CFTC Regulations to be effective 1/30/2013.

Filed Date: 11/16/12.

Accession Number: 20121116-5185.

Comments Due: 5 p.m. ET 12/7/12.

Docket Numbers: ER13-405-000.

Applicants: Cayuga Operating Company, LLC.

Description: Cayuga RMR Filing to be effective 12/31/9998.

Filed Date: 11/16/12.

Accession Number: 20121116-5186.

Comments Due: 5 p.m. ET 12/7/12.

Docket Numbers: ER13-406-000.

Applicants: Southwest Power Pool, Inc.

Description: Revisions to SPP's OATT Reflecting Change of SPP's Official Address to be effective 1/13/2013.

Filed Date: 11/16/12.

Accession Number: 20121116-5188.

Comments Due: 5 p.m. ET 12/7/12.

Docket Numbers: ER13-407-000.

Applicants: Entergy Arkansas, Inc.

Description: Chisholm View Wind Transfer Agreement to be effective 12/1/2012.

Filed Date: 11/16/12.

Accession Number: 20121116-5190.

Comments Due: 5 p.m. ET 12/7/12.

Docket Numbers: ER13-408-000.

Applicants: Entergy Arkansas, Inc.

Description: LaGen-EGSL LGIA to be effective 11/17/2011.

Filed Date: 11/16/12.

Accession Number: 20121116-5191.

Comments Due: 5 p.m. ET 12/7/12.

Docket Numbers: ER13-409-000.

Applicants: Entergy Arkansas, Inc.

Description: KGen-EAI LGIA to be effective 3/15/2012.

Filed Date: 11/16/12.

Accession Number: 20121116-5192.

Comments Due: 5 p.m. ET 12/7/12.

Docket Numbers: ER13-410-000.

Applicants: Entergy Gulf States Louisiana, L.L.C.

Description: LUS System-to-System Interconnection Agreement to be effective 6/22/2012.

Filed Date: 11/16/12.

Accession Number: 20121116-5196.

Comments Due: 5 p.m. ET 12/7/12.

Docket Numbers: ER13-411-000.

Applicants: Pacific Gas and Electric Company.

Description: Pacific Gas and Electric Company submits a Notice of Termination of a Generator Special Facilities and Interconnection Agreement for the South San Joaquin and Oakdale Irrigation Districts—Tulloch Powerhouse.

Filed Date: 11/19/12.

Accession Number: 20121119-5048.

Comments Due: 5 p.m. ET 12/10/12.

Docket Numbers: ER13-412-000.

Applicants: Dominion Nuclear Connecticut, Inc.

Description: New Baseline Refile to be effective 11/20/2012.

Filed Date: 11/19/12.

Accession Number: 20121119-5059.

Comments Due: 5 p.m. ET 12/10/12.

Docket Numbers: ER13-413-000.

Applicants: USG Oregon LLC.

Description: USG Oregon LLC MBR Tariff Filing to be effective 1/17/2013.

Filed Date: 11/19/12.

Accession Number: 20121119-5064.

Comments Due: 5 p.m. ET 12/10/12.

Docket Numbers: ER13-414-000.

Applicants: East Kentucky Power Cooperative, Inc.

Description: East Kentucky Power Cooperative, Inc. submits Request for Waiver to Participate in PJM Reliability Pricing Model Auctions.

Filed Date: 11/15/12.

Accession Number: 20121115-5174.

Comments Due: 5 p.m. ET 12/6/12.

Docket Numbers: ER13-415-000.

Applicants: Anahau Energy, LLC.

Description: Anahau Energy, LLC submits tariff filing per 35.12: Baseline new to be effective 1/1/2013.

Filed Date: 11/19/12.

Accession Number: 20121119-5085.

Comments Due: 5 p.m. ET 12/10/12.

Docket Numbers: ER13-416-000.

Applicants: Midwest Independent Transmission System Operator, Inc.

Description: Midwest Independent Transmission System Operator, Inc. submits tariff filing per 35.13(a)(2)(iii: SA 2491 Hazelton-Mitchell G540 G548 MPFCA to be effective 11/20/2012.

Filed Date: 11/19/12.

Accession Number: 20121119-5107.

Comments Due: 5 p.m. ET 12/10/12.

Docket Numbers: ER13-417-000.

Applicants: Northeast Utilities Service Company, Western Massachusetts Electric Company.

Description: Western Massachusetts Electric Company submits Notice of Cancellation of Transmission Service Rate Schedule with Pittsfield Generating Company, L.P.

Filed Date: 11/19/12.

Accession Number: 20121119-5130.

Comments Due: 5 p.m. ET 12/10/12.

Docket Numbers: ER13-418-000.

Applicants: PJM Interconnection, L.L.C.

Description: PJM Interconnection, L.L.C. submits tariff filing per 35.13(a)(2)(iii: Original Service Agreement No. 3417; Queue No. W3-159 to be effective 10/24/2012.

Filed Date: 11/19/12.

Accession Number: 20121119-5145.

Comments Due: 5 p.m. ET 12/10/12.

Take notice that the Commission received the following electric securities filings:

Docket Numbers: ES13-7-000.

Applicants: PJM Settlement, Inc., PJM Interconnection, L.L.C.

Description: Amendment to November 2, 2012 Application of PJM Settlement, Inc. and PJM Interconnection, L.L.C.

Filed Date: 11/19/12.

Accession Number: 20121119-5092.

Comments Due: 5 p.m. ET 11/29/12.

Docket Numbers: ES13-8-000.

Applicants: Northern Pass Transmission LLC.

Description: Northern Pass Transmission LLC submits Amendment to Application for Authorization to Issue Debt Securities.

Filed Date: 11/16/12.

Accession Number: 20121116-5146.

Comments Due: 5 p.m. ET 11/26/12.

Take notice that the Commission received the following qualifying facility filings:

Docket Numbers: QF13-94-000.

Applicants: Independence Visitors Center.

Description: Form 556 of Independence Visitors Center.

Filed Date: 11/19/12.

Accession Number: 20121119-5060.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2012.
Nathaniel J. Davis, Sr.,
Deputy Secretary.

[FR Doc. 2012-28962 Filed 11-29-12; 8:45 am]

BILLING CODE 6717-01-P